NUCLEAR REGULATORY COMMISSION

BUREAU OF INDIAN AFFAIRS

BUREAU OF LAND MANAGEMENT

Surface Transportation Board

[Docket No. 72-22]

Notice of Availability of Draft Environmental Impact Statement and Notice of Public Meetings for the Proposed Private Fuel Storage, L.L.C.; Independent Spent Fuel Storage Installation on the Reservation of the Skull Valley Band of Goshute Indians and the Related Transportation Facility in Tooele County, UT

AGENCY: Nuclear Regulatory Commission.

ACTION: Notice of availability of draft environmental impact statement and notice of public meetings.

SUMMARY: Notice is hearby given that the U.S. Nuclear Regulatory Commission (NRC), in cooperation with the U.S. Bureau of Indian Affairs (BIA), the U.S. Bureau of Land Management (BLM), and the Surface Transportation Board (STB), has published a Draft Environmental Impact Statement (DEIS), “Draft Environmental Impact Statement for the Construction and Operation of an Independent Spent Nuclear Fuel Storage Installation on the Reservation of the Skull Valley Band of Goshute Indians and the Related Transportation Facility in Tooele County, Utah” NUREG-1714, June 2000, regarding the proposal of Private Fuel Storage, L.L.C. (PFS) to construct and operate an independent spent fuel storage installation (ISFSI) on the Reservation of the Skull Valley Band of Goshute Indians.

The Reservation is located approximately 44 km (27 miles) west-southwest of Tooele, Utah. PFS intends to transport spent nuclear fuel (SNF) by rail from commercial power reactor sites to an existing rail line north of Skull Valley. To transport the SNF from the existing rail line to the proposed facility, PFS proposes the construction and operation of a rail siding and rail line from Skunk Ridge (near Low, Utah) to the site of the ISFSI on the Reservation. This DEIS discusses the purpose and need for the PFS proposal and describes the proposed action and its reasonable alternatives, including the no-action alternative. The DEIS also discusses the environment potentially affected by the proposal, presents and compares the potential environmental impacts resulting from the proposed action and its alternatives, and identifies mitigation measures that could eliminate or lessen the potential environmental impacts.

The PFS proposal requires approval from four federal agencies: NRC, BIA, BLM, and STB. The environmental issues that each of these agencies must evaluate pursuant to the National Environmental Policy Act of 1969 (NEPA) are interrelated; therefore, the agencies have cooperated in the preparation of this DEIS, and this document serves to satisfy each agency's statutory responsibilities under NEPA.

Based on the evaluation in this DEIS, the NRC, BIA, BLM, and STB environmental review staffs have concluded that (1) Measures required by Federal and State permitting authorities other than the cooperating agencies and (2) mitigation measures that the cooperating agencies recommend be required would reduce any short-or long-term adverse environmental impacts associated with the proposed action (i.e., construction and operation of the proposed ISFSI and rail line) to acceptable levels. This DEIS is a preliminary analysis of the environmental impacts of the PFS proposal and its alternatives. The Final EIS and any decision documentation regarding the proposed action will not be issued until public comments on the DEIS have been received and evaluated. Notice of the availability of the Final EIS will be published in the Federal Register.

Public Availability: The DEIS is available for public inspection and duplication at the NRC's Public Document Room at the Gelman Building, 2120 L Street, NW, Washington, DC. The DEIS will be available for review on the NRC Web site, and a comment form will be available for those who wish to submit comments. Upon written request and to the extent supplies are available, a single copy of the draft report can be obtained for free by writing to the Office of the Chief Information Officer, Reproduction and Distribution Services Section, U.S. Nuclear Regulatory Commission, Washington, DC 20555-0001; by e-mail (Distribution@NRC.gov); or by fax at (301) 415-2289.

Public Comment: The cooperating Federal agencies are offering an opportunity for public review and comment on the DEIS in accordance with applicable regulations, including NRC requirements in 10 CFR 51.73, 51.74 and 51.117. Any interested party may submit written comments on the proposed action and on the DEIS for consideration by the staffs of the four cooperating agencies. To be certain of consideration, comments must be received by September 21, 2000. Comments received after the due date will be considered if it is practical to do so, but the staffs of the cooperating agencies are able to assure consideration only for comments received on or before this date.

ADDRESSES: Written comments on the DEIS should be sent to: David L. Meyer, Chief, Rules and Directives Branch, Division of Freedom of Information and Publications Services, Office of Administration, Mailstop T-6D-59, U.S. Nuclear Regulatory Commission, Washington, DC 20555-0001. Comments may also be hand-delivered to the NRC at 11545 Rockville Pike, Rockville, Maryland, between 7:30 a.m. and 4:15 p.m. on Federal workdays.

All comments received by the NRC, including those made by Federal, State, and local agencies, Indian tribes, or other interested persons, will be made available for public inspection at the NRC's Public Document Room in Washington, DC (address is listed above).

Public Meetings: The cooperating agencies will hold two public meetings to present an overview of the DEIS and to accept oral public comments. The public meetings will be held on July 27, 2000, from 7 p.m. to 10 p.m. at the Arizona Room of the Little America Inn, 500 South Main Street, Salt Lake City, Utah 84101 and July 28, 2000, from 7 p.m. to 10 p.m. at the Grantsville Middle School, 318 South Hale Street, Grantsville, UT 84029. Both meetings will be transcribed and will include (1) A presentation summarizing the contents of the DEIS and (2) an opportunity for interested government agencies, organizations, and individuals to provide comments on the DEIS. Persons may register to present oral comments at the public meeting by contacting either Scott Flanders, Sr. Environmental Project Manager, or Mark Delligatti, Sr. Project Manager, at Licensing and Inspection Directorate, Spent Fuel Project Office, Office of Nuclear Material Safety and Safeguards, U.S. Nuclear Regulatory Commission, Washington, DC 20555-0001 no later than July 14, 2000. Persons can also register by telephone (to Mr. Flanders at (301) 415-1172 or Mr. Delligatti at (301) 415-8518) no later than July 21, 2000. Information concerning this DEIS may also be obtained from these individuals. Persons may also register within 15 minutes of the start of each meeting to provide oral comments. Individual oral comments may have to be limited by the time available, depending upon the number of persons who register.

If special equipment or accommodations are needed to attend or present information at the public meeting, the need should be brought to Mr. Flanders' attention no later than July 14, 2000, to provide NRC staff with adequate notice to determine whether the request can be accommodated.

FOR FURTHER INFORMATION CONTACT: Scott C. Flanders, Sr. Environmental Project Manager, Licensing and Inspection Directorate, Spent Fuel Project Office, Office of Nuclear Material Safety and Safeguards, U.S. Nuclear Regulatory Commission, Washington, DC 20555. Telephone (301) 415-1172.

SUPPLEMENTARY INFORMATION: The proposed action involves the construction and operation of the proposed SNF storage facility at a site (known as Site A) located in the northwest corner of the Reservation and transporting SNF from the existing railroad to the site by building a new rail siding and rail line to connect the proposed facility at Site A to the existing Union Pacific main line at Skunk Ridge, Utah. NRC published a notice of intent to prepare an EIS and conduct a scoping process in the Federal Register on May 1, 1998 (63 FR 24197). As a part of the scoping process, a public scoping meeting was conducted to obtain comments on the intended scope of the EIS on June 2, 1998, in Salt Lake City, Utah. Two additional scoping meetings were held on April 29, 1999 (64 FR 18451) in Salt Lake City and Tooele, Utah, to address the PFS proposal to construct and operate the proposed rail line and to address any environmental impacts associated with the lease agreement that might not have been discussed at the previous scoping meeting.

This DEIS has been prepared in compliance with NEPA, NRC regulations for implementing NEPA (10 CFR Part 51), guidance provided by the Council on Environmental Quality (CEQ) regulations implementing the procedural provisions of NEPA (40 CFR Part 1500), STB regulations for implementing NEPA (49 CFR Part 1105), and BLM and BIA policy procedures and guidance documents.

Federal agencies' actions are considered in this DEIS. NRC's action is to grant or deny a 20-year license to PFS to receive, transfer, and possess SNF on the Reservation. BIA's action is to either approve or disapprove a 25-year lease between PFS and the Skull Valley Band for use of Reservation land to construct and operate the proposed facility. Both the license and the lease may be renewed. BLM's action is to either grant or deny one of two requests for rights-of-way through BLM land for transporting SNF from the existing rail line to the proposed facility site, including amending its resource management plan if necessary. STB's action is to grant or deny PFS's application for a license to construct and operate a new rail line to the proposed facility site.

This DEIS not only evaluates the proposed action (Alternative 1) described above, but also the environmental impacts of the alternative actions. Alternatives involving the Skull Valley site include an alternative site location on the Reservation (known as Site B), and an alternative transportation method (i.e., heavy-haul vehicles). Consideration of an alternative site location on the Reservation and an alternative transportation method resulted in evaluating the following alternatives:

• Alternative 2—the construction and operation of the proposed facility at Site B on the Reservation with a rail siding and a rail line similar to that described above.

• Alternative 3—construction and operation of the proposed facility at Site A, construction and operation of a new Intermodal Transfer Facility (ITF) near Timpie, Utah, and use of heavy-haul vehicles to transport SNF down Skull Valley Road.

• Alternative 4—the construction and operation of the proposed facility at Site B with the same ITF and SNF transport described in Alternative 3 above.

Additionally, the DEIS compares the construction and operation of a SNF storage facility in Wyoming in lieu of the Skull Valley site. This comparison was made to determine if an identified alternative site is obviously superior to the proposed site. Lastly, the DEIS evaluates the no-action alternative, i.e, not to build the proposed facility in Skull Valley. Under the no-action alternative, the potential impacts of constructing and operating the proposed facility and associated SNF transportation facilities in Skull Valley would not occur.

This DEIS assesses the impacts of the proposed action and its alternatives for minerals, soils, water resources, air quality, ecological resources, socioeconomics and community resources, cultural resources, human health impact, noise, scenic qualities, recreation, and environmental justice. Additionally, an analysis and comparison of the costs and benefits of the proposed action has been performed.

Based on the evaluation in the DEIS, the NRC's preferred alternative is the proposed action with implementation of the mitigation measures recommended by the cooperating agencies.

A BLM decision to grant a right-of-way to PFS would be dependent upon the decisions made by the NRC and BIA. If the NRC issues a license to PFS for the proposed facility and BIA approves the lease, then BLM's preferred alternative would be to amend the Pony Express Resource Management Plan and issue a right-of-way for the Skunk Ridge rail siding and rail line. Absent such findings by the NRC and BIA, BLM would not grant either of PFS’ rights-of-way requests.

Based on the information and analysis to date, the STB environmental review staff's preliminary conclusion is that the proposed project, with the implementation of the cooperating agencies recommended mitigation measures, would not result in significant adverse impacts to the environment; therefore, its preferred alternative would be to recommend approval of the construction and operation of the proposed rail line.

BIA does not have a preferred alternative but will choose one in the Final EIS based upon its trust responsibility to the Skull Valley Band, including consideration of environmental impacts and mitigation measures identified in the DEIS and public comments on the DEIS.

This DEIS is a preliminary analysis of the environmental impacts of the PFS proposal. The cooperating Federal agencies will review the comments, conduct any necessary analyses, and make appropriate revisions in developing the Final EIS.

Participation in the public process does not entitle participants to become parties to the adjudicatory proceeding associated with the proposed NRC licensing action. Participation in the adjudicatory proceeding is governed by the procedures specified in 10 CFR 2.714 and 2.715 and in the aforementioned Federal Register Notice (62 FR 41099).

Dated at Rockville, Maryland, this 16th day of June 2000.
For the Nuclear Regulatory Commission.
E. William Brach,
Director, Spent Fuel Project Office, Office of Nuclear Material Safety and Safeguards.

Dated at Washington, D.C., this 15th day of June 2000.
For the Surface Transportation Board.
Victoria J. Rutson,
Acting Chief, Section of Environmental Analysis.

Dated at Salt Lake City, Utah, this 13th day of June 2000.
For the Bureau of Land Management.
Glenn A. Carpenter,
Field Manager, Salt Lake Field Office.

Dated at Fort Duchesne, Utah, this 13th day of June 2000.
For the U.S. Bureau of Indian Affairs.
David Allison,
Superintendent, Unitah and Ouray Agency.

[FR Doc. 00-15933 Filed 6-22-00; 8:45 am]

BILLING CODE 7590-01-P